DEPARTMENT OF AGRICULTURE

Forest Service

Umatilla National Forest, North Fork John Day Ranger District; Oregon; Ten Cent Community Wildfire Protection Project

AGENCY: Forest Service, USDA.

ACTION: Notice of intent to prepare an environmental impact statement.

SUMMARY: The USDA, Forest Service will prepare an Environmental Impact Statement (EIS) to analyze impacts for fuels treatment in the Granite Creek Watershed of the North Fork John Day Ranger District of the Umatilla National Forest and the Whitman Ranger District of the Wallowa-Whitman National Forest.

Scoping for the EIS was open for 30 days in July 2015 and numerous comments were received from the public. These comments were used to form the issues for the EIS.

DATES: The draft environmental impact statement is expected to be available for public comment in May 2016 and the final environmental impact statement is expected to be completed in September 2016.

FOR FURTHER INFORMATION CONTACT: Andrew Stinchfield, North Fork John Day Ranger District, P.O. Box 158, Ukiah, OR 97880, (541) 427-3231.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need of the Ten Cent Community Wildfire Protection Project is to provide a safer working environment for firefighters while improving probability of success in protecting life and property associated with the adjacent private lands in the event of a wildfire within or threatening the values at risk (VAR) in the Granite Zone as defined by the Grant County Community Wildfire Protection Plan. These values at risk include the cities of Granite and Greenhorn, scattered inholdings (intermix), and the ingress/egress routes from private lands. Modeled flame lengths across the planning area are currently around 4.6 feet, with some stands showing modeled flame lengths as high as 20 feet. Many of the stands within the analysis area are predicted to exhibit active crown fires as well.

The desired condition would result in areas within the strategically placed Defensible Fuel Profile Zones (DFPZs) exhibiting flame lengths of less than 4 feet and reducing the probability of a wildfire burning through the crowns of live trees. Defensible Fuel Profile Zones are defined as linear paths through a forested area in which surface and canopy fuels have been altered but where significant overstory is retained to shade the surface fuels. Fires that exhibit flame lengths of less than 4 feet can generally be attacked at the head or flanks by firefighters using hand tools. Handline should be able to hold the fire within the line, and with ladder fuels removed the chance of the fire running into the live tree crowns is greatly reduced as well. Running crown fires lead to unpredictable ember generation (spotting) which can further threaten values at risk.

Therefore, there is a need:

• To create a series of strategically placed DFPZs in order to modify the existing fuels to reduce potential fire behavior to low intensity and reduce the probability of crown fire and spotting.

• To enhance landscape resilience to future wildfires within the Granite Creek watershed.

• To maintain and enhance local communities and economies by providing a diversity of resource management activities, recreational opportunities, commodity outputs, and ecosystem services from public lands.

The overall need for the Ten Cent Community Wildfire Protection Project is to modify the predicted fire behavior in the project area while also supporting local communities by providing goods and services.

Proposed Action

The Forest Service proposes the following actions within the project area to address the purpose and need for action. Multiple types of fuel reduction treatments would occur across these stands and would be designed to increase crown spacing and reduce surface fuels. These treatments would occur along the private land boundaries and extend up to 1.5 miles away from those boundaries, where indicated by predicted fire behavior. The goal would be to create a contiguous DFPZ along all private land borders within the project area. Strategic DFPZs would also be placed along roads and the forest stands within these zones would be treated a maximum of 500 feet from both sides of the road as necessary. The width of treatment would be dictated by current stand conditions as well as other resource management needs. The goal of these roadside treatments would be DFPZs that help facilitate safe evacuation of residents and recreationists in the event of a wildfire, slow the progress of a wildfire coming out of the Wilderness, and provide suppression forces a higher probability of successfully managing a wildfire using indirect or more direct suppression tactics. The proposed actions, with the exception of some prescribed burning, are within 1.5 miles of identified values at risk (cities of Granite and Greenhorn, private inholdings/structures, ingress and egress routes) with most of the treatments occurring within 0.25 miles of the values at risk. The area treated would include 8,137 acres of stands identified that currently support flame lengths greater than or equal to 4 feet and have a high potential for crown fire initiation. A total of 6,035 acres would be treated along egress routes within the project area. About 38,000 acres of prescribed fire is proposed across the watershed including a maximum of about 9,500 acres located in the NFJD Wilderness.

Possible Alternatives

The Forest Service developed 4 alternatives in response to issues raised by the public:

• Alternative 1—No Action

• Alternative 2—Proposed Action

• Alternative 3—First Alternative to the Proposed Action

• Alternative 4—Second Alternative to the Proposed Action

Responsible Official

Ian Reid, District Ranger, North Fork John Day Ranger District will be the responsible official for making the decision and providing direction for the analysis.

Nature of Decision To Be Made

The responsible official will decide whether or not to authorize the proposal.

Preliminary Issues

The Forest Service has identified seven issues from previous scoping:

• Issue 1: Large scale landscape burning may have a negative impact on air quality.

• Issue 2: The prescribed fire treatment proposed in Moist and Cold upland forests (UF) is not appropriate for these Potential Vegetation Groups (PVGs) and associated biophysical environments. These PVGs historically burned at mixed (primarily Moist UF) and high (primarily Cold UF and some Moist UF) severity at the hottest and driest time of the year. Impacts of prescribed burning in the late summer and fall to Moist and Cold UF stands would not be characteristic of these PVGs; as a result, impacts to nutrient cycling, dead wood recruitment, vegetative succession, wildlife species, etc., would also be uncharacteristic.

• Issue 3: Prescribed fire treatments in the Wilderness may have a negative impact on Wilderness characteristics.

• Issue 4: Mechanical treatments need to be prescribed in a manner which maximizes economic benefits.

• Issue 5: Some proposed treatments may be a threat to forest investments such as white pine plantations and Subalpine fir stands.

• Issue 6: Treatment under the Proposed Action would impact the quality of forested stands that provide connectivity between late and old structure and Forest Plan designated old growth habitat at the analysis area and larger landscape scale; treated (mechanical and prescribed fire) connectivity habitat would not meet Forest Plan standards following implementation. The treatment activities would affect the ability of wildlife to move freely between late and old structure and designated old growth stands, and may ultimately impact population levels and the viability of species dependent on old forest habitat.

ADDRESSES: Andrew Stinchfield, Project Manager, P.O. Box 158, Ukiah, OR 97880.

Dated: February 22, 2016.
Ian Reid,
District Ranger.

[FR Doc. 2016-04303 Filed 3-7-16; 8:45 am]

BILLING CODE 3410-11-P